DEPARTMENT OF AGRICULTURE

Food Safety and Inspection Service

[Docket No. FSIS-2006-0020]

Codex Alimentarius Commission: 13th Session of the Codex Committee on Fresh Fruits and Vegetables

AGENCY: Office of the Under Secretary for Food Safety, USDA.

ACTION: Notice of public meeting, request for comments.

SUMMARY: The Office of the Under Secretary for Food Safety, United States Department of Agriculture (USDA), and the Agricultural Marketing Service (AMS) are sponsoring a public meeting on August 3, 2006 to provide draft U.S. positions and receive public comments on agenda items that will be discussed at the 13th Session of the Codex Committee on Fresh Fruits and Vegetables (CCFFV) of the Codex Alimentarius Commission (Codex), which will be held in Mexico City, Mexico, on September 25-29, 2006. The Under Secretary and AMS recognize the importance of providing interested parties the opportunity to comment on the agenda items that will be debated at this forthcoming Session of the CCFFV.

DATES: The public meeting is scheduled for Thursday, August 3, 2006, from 10 a.m. to 12 noon.

ADDRESSES: The public meeting will be held in Room 3074, USDA, South Agriculture Building, 1400 Independence Avenue SW., Washington, DC. Documents related to the 13th Session of the CCFFV will be accessible via the World Wide Web at the following address: http://www.codexalimentarius.net/current.asp.

The Food Safety and Inspection Service (FSIS) invites interested persons to submit comments on this notice. Comments may be submitted by any of the following methods:

Federal eRulemaking Portal: This Web site provides the ability to type short comments directly into the comment field on this Web page or attach a file for lengthier comments. Go to http://www.regulations.gov and, in the “Search for Open Regulations” box, select “Food Safety and Inspection Service” from the agency drop-down menu, then click on “Submit.” In the Docket ID column, select the FDMS Docket Number FSIS-2006-0020 to submit or view public comments and to view supporting and related materials available electronically.

Mail, including floppy disks or CD-ROM's, and hand- or courier-delivered items: Send to FSIS Docket Room, Docket Clerk, USDA, FSIS, 300 12th Street, SW., Room 102, Cotton Annex Building, Washington, DC 20250.

Electronic mail: fsis.regulationscomments@fsis.usda.gov.

All submissions received must include the Agency name and docket number FSIS-2006-0020.

All comments submitted in response to this notice, as well as research and background information used by FSIS in developing this document, will be posted to the regulations.gov Web site. The background information and comments also will be available for public inspection in the FSIS Docket Room at the address listed above between 8:30 a.m. and 4:30 p.m., Monday through Friday.

For Further Information About the 13th Session of the CCFFV Contact: U.S. Delegate, Dorian Lafond, International Standards Coordinator, Fruit and Vegetable Division, Agricultural Marketing Service, USDA, 1400 Independence Avenue SW., Washington, DC 20250, Phone: (202) 690-4944, Fax: (202) 720-0016, E-mail: Dorian.Lafond@usda.gov.

For Further Information About the Public Meeting Contact: Ellen Matten, International Issues Analyst, U.S. Codex Office, USDA, FSIS, Room 4861, South Agriculture Building, 1400 Independence Avenue SW., Washington, DC 20250, Phone: (202) 205-7760, Fax: (202) 720-3157. E-mail: ellen.matten@fsis.usda.gov.

SUPPLEMENTARY INFORMATION:

Background

The Codex Alimentarius Commission (Codex) was established in 1963 by two United Nations organizations, the Food and Agriculture Organization (FAO) and the World Health Organization (WHO). Codex is the major international organization for protecting the health and economic interests of consumers and encouraging fair international trade in food. Through adoption of food standards, codes of practice, and other guidelines developed by its committees, and by promoting their adoption and implementation by governments, Codex seeks to ensure that the world's food supply is sound, wholesome, free from adulteration, and correctly labeled. In the United States, USDA, The Food and Drug Administration, and the Environmental Protection Agency manage and carry out U.S. Codex activities.

The Codex Committee on Fresh Fruits and Vegetables elaborates world wide standards and codes of practice for fresh fruits and vegetables. It consults with the UN/ECE Working Party on Agricultural Quality Standards in the elaboration of world wide standards and codes of practice with particular regard to ensuring that there is no duplication of standards or codes of practice and that they follow the same broad format. The Committee also consults, as necessary, with other international organizations which are active in the area of standardization of fresh fruits and vegetables. The Committee is hosted by the government of Mexico.

Issues To Be Discussed at the Public Meeting

The following items on the agenda for the 13th Session of CCFFV will be discussed during the public meeting:

• Matters referred to the Committee from other Codex bodies.

• Proposed Layout for Codex Standards for Fresh Fruits and Vegetables.

• Draft Codex Standard for Table Grapes (maturity requirements and list of small berry varieties).

• Draft Codex Standard for Tomatoes (provisions for sizing and size codes).

• Proposed Draft Codex Standard for Apples.

• Proposed Draft Standard for Bitter Cassava.

• Proposed Guidelines for the Quality Control of Fresh Fruits and Vegetables.

• Report on the need for partial or total revision of the Codex Standard for Avocado.

• Proposals for Amendments to the Priority List for the Standardization of Fresh Fruits and Vegetables.

Each issue listed will be fully described in documents distributed, or to be distributed, by the Mexican Secretariat to the Meeting. Members of the public may access or request copies of these documents via the World Wide Web at the following address: http://www.codexalimentarius.net/current.asp.

Public Meeting

At the August 3, 2006 public meeting, draft U.S. positions on these agenda items will be described, discussed, and attendees will have the opportunity to pose questions and offer comments. Written comments may be offered at the meeting or sent to the U.S. Delegate for the 13th Session of CCFFV, Dorian Lafond (see For Further Information About the 13TH Session of the CCFFV Contact). Written comments should state that they relate to activities of the 13th Session of the CCFFV.

Additional Public Notification

Public awareness of all segments of rulemaking and policy development is important. Consequently, in an effort to ensure that minorities, women, and persons with disabilities are aware of this notice, FSIS will announce it on-line through the FSIS Web Page located at http://www.fsis.usda.gov/regulations/2006_Notices_Index/. FSIS also will make copies of this Federal Register publication available through the FSIS Constituent Update, which is used to provide information regarding FSIS policies, procedures, regulations, Federal Register notices, FSIS public meetings, recalls and other types of information that could affect or would be of interest to constituents and stakeholders. The update is communicated via Listserv, a free electronic mail subscription service for industry, trade and farm groups, consumer interest groups, allied health professionals and other individuals who have asked to be included. The update is available on the FSIS Web page. Through the Listserv and Web page, FSIS is able to provide information to a much broader and more diverse audience. In addition, FSIS offers an e-mail subscription service which provides automatic and customized access to selected food safety news and information. This service is available at http://www.fsis.usda.gov/news_and_events/email_ subscription/. Options range from recalls to export information to regulations, directives and notices. Customers can add or delete subscriptions themselves and have the option to password protect their account.

Done at Washington, DC, on July 20, 2006.
F. Edward Scarbrough,
U.S. Manager for Codex Alimentarius.

[FR Doc. E6-11787 Filed 7-24-06; 8:45 am]

BILLING CODE 3410-DM-P